DEPARTMENT OF HEALTH AND HUMAN SERVICES

Centers for Medicare & Medicaid Services

[Document Identifier: CMS-10510]

Emergency Clearance: Public Information Collection Requirements Submitted to the Office of Management and Budget (OMB); Correction

AGENCY: Centers for Medicare & Medicaid Services (CMS), HHS.

ACTION: Notice; correction.

SUMMARY: This document corrects a date in the December 23, 2013, Federal Register notice (document identifier: CMS-10510) entitled “Basic Health Program Report for Health Insurance Exchange Premium.”

FOR FURTHER INFORMATION CONTACT: Jessica Schubel at 410-786-3032.

SUPPLEMENTARY INFORMATION:

I. Background

On December 23, 2013 (78 FR 77469), we published an emergency Paperwork Reduction Act (PRA) notice for the information collection request entitled “Basic Health Program Report for Health Insurance Exchange Premium.”

While the date requested for OMB approval (January 6, 2014) is correct in the associated PRA package, the date in the December 23, 2013, Federal Register notice incorrectly reads “December 23, 2013.” This notice corrects that error as follows.

II. Correction

In the Federal Register of December 23, 2013, in FR Doc. 2013-30434, on page 77469, in the third column, in the third paragraph, correct the first sentence to read:

We are requesting OMB review and approval of this collection by January 6, 2014, with a 180-day approval period.

Dated: December 23, 2013.
Martique Jones,
Deputy Director, Regulations Development Group, Office of Strategic Operations and Regulatory Affairs.

[FR Doc. 2013-30989 Filed 12-26-13; 8:45 am]

BILLING CODE 4120-01-P